Proclamation 8908 of November 20, 2012

Thanksgiving Day, 2012

By the President of the United States of America

A Proclamation

On Thanksgiving Day, Americans everywhere gather with family and friends to recount the joys and blessings of the past year. This day is a time to take stock of the fortune we have known and the kindnesses we have shared, grateful for the God-given bounty that enriches our lives. As many pause to lend a hand to those in need, we are also reminded of the indelible spirit of compassion and mutual responsibility that has distinguished our Nation since its earliest days.

Many Thanksgivings have offered opportunities to celebrate community during times of hardship. When the Pilgrims at Plymouth Colony gave thanks for a bountiful harvest nearly four centuries ago, they enjoyed the fruits of their labor with the Wampanoag tribe—a people who had shared vital knowledge of the land in the difficult months before. When President George Washington marked our democracy's first Thanksgiving, he prayed to our Creator for peace, union, and plenty through the trials that would surely come. And when our Nation was torn by bitterness and civil war, President Abraham Lincoln reminded us that we were, at heart, one Nation, sharing a bond as Americans that could bend but would not break. Those expressions of unity still echo today, whether in the contributions that generations of Native Americans have made to our country, the Union our forebears fought so hard to preserve, or the providence that draws our families together this season.

As we reflect on our proud heritage, let us also give thanks to those who honor it by giving back. This Thanksgiving, thousands of our men and women in uniform will sit down for a meal far from their loved ones and the comforts of home. We honor their service and sacrifice. We also show our appreciation to Americans who are serving in their communities, ensuring their neighbors have a hot meal and a place to stay. Their actions reflect our age-old belief that we are our brothers' and sisters' keepers, and they affirm once more that we are a people who draw our deepest strength not from might or wealth, but from our bonds to each other.

On Thanksgiving Day, individuals from all walks of life come together to celebrate this most American tradition, grateful for the blessings of family, community, and country. Let us spend this day by lifting up those we love, mindful of the grace bestowed upon us by God and by all who have made our lives richer with their presence.

NOW, THEREFORE, I, BARACK OBAMA, President of the United States of America, by virtue of the authority vested in me by the Constitution and the laws of the United States, do hereby proclaim Thursday, November 22, 2012, as a National Day of Thanksgiving. I encourage the people of the United States to join together—whether in our homes, places of worship, community centers, or any place of fellowship for friends and neighbors—and give thanks for all we have received in the past year, express appreciation to those whose lives enrich our own, and share our bounty with others.

IN WITNESS WHEREOF, I have hereunto set my hand this twentieth day of November, in the year of our Lord two thousand twelve, and of the Independence of the United States of America the two hundred and thirty-seventh.

[FR Doc. 2012-28808

Filed 11-26-12; 8:45 am]

Billing code 3295-F3